DEPARTMENT OF ENERGY

Federal Energy Regulatory Commission

[Docket No. CP02-90-001]

AES Ocean Express, L.L.C.; Notice of Intent To Prepare an Environmental Impact Statement for the Proposed Ocean Express Pipeline Project, Request for Comments on Environmental Issues, and Notice of a Public Scoping Meeting and Site Visit

November 19, 2002.

On February 21, 2002, AES Ocean Express, L.L.C. (Ocean Express) filed its Application for Certificates of Public Convenience and Necessity for authorization to own, construct, operate and maintain a new 24-inch diameter, approximately 54.3-mile interstate natural gas pipeline extending from a receipt point on the Exclusive Economic Zone (“EEZ”) boundary between the United States and the Bahamas to delivery points in Broward County, Florida, together with certain ancillary facilities. Shortly after Ocean Express filed that application, on March 26, 2002, the Naval Surface Warfare Center, Carderock Division (“NSWCCD”) filed a motion to intervene in which it expressed concerns regarding the routing of the project and its potential impacts on NSWCCD operations. Since that time, Ocean Express and NSWCCD have met and reached an agreement in principle on measures to resolve NSWCCD's technical and operational concerns regarding construction, operation, and maintenance of the proposed Ocean Express Pipeline. On October 18, 2002, Ocean Express filed an Amendment to the Application proposing a new route variation and design changes for the nearshore portion of Ocean Express' offshore pipeline in the vicinity of the Navy Restricted Area.

The staff of the Federal Energy Regulatory Commission (FERC or Commission) and the Minerals Management Service (MMS) will prepare an Environmental Impact Statement (EIS) that will analyze the environmental impacts of the proposed Ocean Express Pipeline Project.¹ The proposed pipeline originates in the Bahamas and would come ashore east of Dania, Florida. These facilities would consist of about 54.3 miles of 24-inch diameter pipeline (about 48.0 miles offshore and 6.3 miles onshore), two aboveground metering facilities, a pig launching/receiving station, one aboveground shutoff valve, and one belowground valve. This EIS will be used by the Commission in its decision-making process to determine whether the project is in the public convenience and necessity. The MMS will have primary responsibility for offshore analysis in U.S. waters and will coordinate with the U.S. Army Corps of Engineers regarding Florida state waters review.

¹ Ocean Express' application was filed with the Commission on February 21, 2002, under Section 7) of the Natural Gas Act as amended, and Parts 157 and 284 of the Commission's regulations.

The application, amended application, and other supplemental filings in this docket are available for viewing on the FERC Internet website (http://www.ferc.gov). Click on the “FERRIS” link, select “General Search” from the FERRIS Menu, and follow the instructions, being sure to input the correct docket number (CP02-90). General information about the MMS and detailed information regarding Florida state and Federal waters can be accessed at the MMS Internet website (http://www.mms.gov).

The FERC is the lead agency and the MMS is a Federal cooperating agency for this project because the MMS has jurisdiction by law as well as special expertise regarding the potential environmental impacts associated with that portion of the proposed pipeline that would be installed on the Outer Continental Shelf.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice that Ocean Express provided to landowners. This fact sheet addresses a number of typically asked questions, including the use of eminent domain and how to participate in the Commission's proceedings. It is available for viewing on the FERC Internet website (http://www.ferc.gov).

Summary of the Proposed Project

Florida is experiencing a substantial increase in demand for electric power as a result of population growth in the state. The Ocean Express project would transport into Florida up to 842 million standard cubic feet of natural gas per day. The project would deliver the gas to an interconnect with the Florida Gas Transmission Company (FGT) system and an interconnect with the Florida Power & Light Company (FPL) gas line that services the FPL Fort Lauderdale Power Plant.

The Ocean Express Pipeline Project would be located onshore in Broward County, Florida and offshore in the Atlantic Ocean. The project would receive gas at the U.S./Bahamian EEZ at a subsea connection to a 24-inch pipeline, referred to as the Bahamian Pipeline. The Bahamian Pipeline would transport natural gas from a proposed liquefied natural gas (LNG) receiving, storage, and regasification facility on Ocean Cay, a manmade industrial island in Bimini, Commonwealth of the Bahamas.

The LNG facility and the Bahamian Pipeline are non-jurisdictional facilities and would be constructed and operated by AES Ocean LNG, Ltd., a Bahamian affiliate. The LNG facility would receive LNG tankers arriving from international LNG supply locations. The LNG would be offloaded from the tankers and stored in specially designed storage tanks. From there, the LNG would be revaporized in heat exchangers on the terminal site and the resulting natural gas would be fed into the 24-inch-diameter offshore pipeline.

The FERC and MMS authorizations for this project would not extend eastward of the EEZ. The Government of the Bahamas regulates matters pertaining to the environment and safety and traditionally requires an environmental impact assessment as a condition to approving a project such as the LNG terminal and Bahamian Pipeline. The Government of the Bahamas is in the process of reviewing the environmental impact assessment for these facilities.

The LNG facility and the Bahamian Pipeline are not part of the facilities proposed in the Ocean Express application to the FERC. In its application, Ocean Express seeks authority to construct and operate the following:

—Offshore Pipeline Segment

The proposed offshore pipeline segment would be located in the Atlantic Ocean, off the southeast Florida coastline, and would consist of approximately 48 miles of 24-inch-diameter pipeline (Offshore Pipeline). The Offshore Pipeline would traverse the Atlantic Ocean, starting at the U.S./Bahamian EEZ, passing through Federal and state waters, and end at a shoreline entry east of Dania, Florida to connect with the proposed onshore pipeline segment.

—Nearshore Pipeline Segment

The Florida shore approach would be installed utilizing horizontal directional drilling (HDD) techniques to minimize impacts to three near-shore reef trends. The pipeline would be directionally drilled out from the Dania Beach Boulevard (Route A1A) traffic circle to a point 6,170 feet from shore to a previously disturbed, former sand borrow pit located in a gap between two reef systems. A second 2,372-foot-long HDD segment (offshore HDD) would extend from the former sand borrow pit to a point east of the outermost reef system.

The remaining sections of the offshore segment would be installed by direct pipe lay on the sea floor using a laybarge. AES is evaluating the feasibility of using various methods to either bury the pipeline or cover it with protective concrete mats along the segment between the two HDD segments and from the second HDD to water depths of approximately 200 feet. Where water depths exceed 200 feet, the offshore pipeline would also be laid directly on the sea floor, with no covering proposed.

—Onshore Pipeline Segment

The proposed onshore pipeline would consist of approximately 6.3 miles of 24-inch-diameter pipeline (Onshore Pipeline). The Onshore Pipeline would start at the terminus of the proposed Offshore Pipeline (the shoreline entry) and end at the proposed interconnections with the FGT and FPL systems.

The proposed facilities are summarized in tables 1 and 2 below. The general locations of the project facilities are shown in Appendix 1.² If you are interested in obtaining detailed maps of a specific portion of the project, send in your request using the form in Appendix 3.

² The appendices referenced in this notice are not being printed in the Federal Register. Copies are available on the Commission's website at the “FERRIS” link or from the Commission's Public Reference and Files Maintenance Branch, 888 First Street, NE., Washington, DC 20426, or call (202) 502-8371. For instructions on connecting to FERRIS refer to the last page of this notice. Copies of the appendices were sent to all those receiving this notice in the mail.

Table 1.—Proposed Pipeline Facilities for the Ocean Express Pipeline Project
Location | Length (miles)
U.S. Federal Waters | 43.0
Florida State Waters | 5.0
Broward County (Onshore) | 6.3
Total New Pipeline Length | ¹ 54.3
¹ Does not include 40.4 miles of non-jurisdictional waters between the Bahamas and the EEZ.

Table 2.—Summary of Ancillary Facilities for the Ocean Express Pipeline Project
Facility | Approximate milepost | Description
Shutoff Valve belowground) | 46.1 | Dania Beach Boulevard Circle.
Shutoff Valve and Pig Launching/Receiving Station (aboveground) | 52.4 | Located prior to Interconnections with FGT and FPL.
2 Meter Stations and Pressure Regulation Stations | 52.4 | Meter Station connections to FGT and FPL located on a 0.25-acre site.

Land Requirements for Construction

Construction of the onshore portion of the Ocean Express Pipeline Project would affect a total of about 34 acres of land including: 19 acres for pipeline construction; 9.4 acres for extra workspace; 6.2 acres for a contractor yard; and 0.25 acre for aboveground facilities. Total land requirements for the permanent right-of-way would be about 11.3 acres. The remaining 23 acres of land affected by construction would be restored and allowed to revert to its former use.

Approximately 1.6 miles (25 percent) of the Onshore Pipeline would be directionally drilled or bored underground. Of the remaining 4.7 miles of the route, approximately 3.8 miles (60 percent) would be installed parallel to existing roadway, pipeline, and utility rights-of-way which are within commercial/industrial areas and 0.9 mile (15 percent) would cross open land. Ocean Express would typically use a 45-foot-wide construction right-of-way. Additional extra temporary work areas may be necessary for waterbody, highway, and railroad crossings; additional topsoil storage; and pipe storage and equipment yards.

Following construction and restoration of the right-of-way and temporary extra work spaces, Ocean Express would typically retain a new 20-foot-wide permanent easement for the 24-inch-diameter pipeline. The remaining portion of the construction right-of-way would be returned to landowners for their use without restrictions after appropriate reclamation efforts are successful.

Constructing the offshore portion of the Ocean Express Pipeline Project would affect about 1,840 acres. Installation of the project in State of Florida waters includes two HDD segments totaling 1.62 miles and direct lay on the sea floor for 3.38 miles in depths of less than 200 feet.

The EIS Process

The National Environmental Policy Act (NEPA) requires the Commission to take into account the environmental impacts that could result from an action whenever it considers the issuance of a Certificate of Public Convenience and Necessity. NEPA also requires us ³ to discover and address concerns the public may have about proposals. This is called “scoping.” The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ “We”, “us”, and “our” refer to the environmental staff of the Office of Energy Projects (OEP).

The EIS will discuss impacts that could occur as a result of the construction and operation of the proposed project under these general headings:

—Geology

—Water resources

—Vegetation

—Cultural resources

—Socioeconomics

—Reliability and safety

—Air quality and noise

—Soils and sedmients

—Wetlands, barrier beaches, and submerged aquatic vegetation

—Fish and wildlife

—Endangered and threatened species

—Land use, recreation, and visual resources

—Alternatives

We will also evaluate possible alternatives to the proposed project or portions of the project, and make recommendations on how to lessen or avoid impacts on the various resource areas.

Our independent analysis of the issues will be in the . The will be mailed to Federal, state, and local agencies, public interest groups, interested individuals, affected landowners, newspapers, libraries, and the Commission's official service list for this proceeding. A 45-day comment period will be allotted for review of the. We will consider all comments on the and revise the document, as necessary, before issuing a Final EIS. The Final EIS will include our responses to comments received and will be used by the Commission in its decision-making process to determine whether to approve the project. To ensure your comments are considered, please carefully follow the instructions in the Public Participation and Scoping Meeting section.

Currently Identified Environmental Issues

The EIS will discuss impacts that could occur as a result of the construction and operation of the proposed project. We have already identified a number of issues that deserve attention based on a preliminary review of the proposed facilities, the environmental information provided by Ocean Express, and early input from intervenors. Some of these issues are listed below. This list is preliminary and may be changed based on your comments and our analysis. Currently identified environmental issues for the Ocean Express Pipeline Project include:

—Construction and operational effects on seagrasses, coral reefs, hard and soft bottom communities, mangroves, and aquatic organisms;

—Extent and effects of turbidity and sedimentation that may result from pipeline trenching and directional drilling in shallow waters;

—Potential failure of the two HDD procedures;

—Effects on wildlife and fisheries including essential fish habitat and fisheries of special concern, other commercial and recreational fisheries, or other species listed at the Federal, state, or local level;

—Potential fuel spills from the pipelay barges and associated vessel traffic;

—Potential effects on West Lake Park and the Airport Buffer Strip Park;

—Potential effect on future land use;

—Potential effect on Broward County tree resources and on rare plants;

—Effect of construction on groundwater and surface water supplies;

—Potential introduction and control of non-native plant species;

—Effects on federally endangered and threatened species including the wood stork, Johnson's seagrass, Garber's spurge, West Indian manatee, loggerhead sea turtle, green sea turtle, hawksbill sea turtle, Kemp's ridley sea turtle, and leatherback sea turtle;

—Potential effects on offshore submerged cultural resources;

—Noise generated as a result of pipeline construction;

—Temporary disruption of local roadways, bikeways, and fitness trails during construction;

—Offshore crossings of the U.S. Naval Surface Warfare training facilities and existing utility cables;

—Potential impacts on 0.7 acre of forested wetlands;

—Potential effect of the project on designated airport runway clearance zones;

—Cumulative effects of the proposed project with other projects, including other natural gas pipelines, which have been or may be proposed in the same region and similar time frames; and

—Safety of the proposed pipeline.

Public Participation and Scoping Meeting

You can make a difference by providing us with your specific comments or concerns about the project. By becoming a commentor, your concerns will be addressed in the and considered by the Commission. You should focus on the potential environmental effects of the proposal, alternatives to the proposal (including alternative ), and measures to avoid or lessen environmental impact. The more specific your comments, the more useful they will be. Please carefully follow these instructions to ensure that your comments are received in time and properly recorded:

—Send an original and two copies of your letter to: Magalie R. Salas, Secretary, Federal Energy Regulatory Commission, 888 First St., NE., Room 1A, Washington, DC 20426.

—Label one copy of the comments for the attention of Branch.

—Reference Docket No.

—Mail your comments so that they will be received in Washington, DC on or before December 20, 2002.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's web site at http://www.ferc.gov under the “e-Filing” link and the link to the User's Guide. Before you can file comments you will need to create a free account which can be created by clicking on “Login to File” and then “New User Account.”

If you do not want to send comments at this time but still want to remain on our mailing list, please return the Information Request . If you do not return the Information Request, you will be taken off the mailing list.

In addition to or in lieu of sending written comments, we invite you to attend the public scoping meeting the FERC will conduct in the project area. The location and time for this meeting is listed below.

Schedule for the Ocean Express Pipeline Project Environmental Impact Statement Public Scoping Meeting
Date and time | Location | Phone
December 3, 2002 at 7 p.m | I.T. Parker Community Center, 901 N.E. Third Street, Dania Beach, FL 33004 | (916) 973-4703

The public meeting is designed to provide you with more detailed information and another opportunity to offer your comments on the proposed project. Prior to the start of the meeting, company representatives will be available to informally discuss the project. Interested groups and individuals are encouraged to attend the meeting and to present comments on the environmental issues they believe should be addressed in the Draft EIS. A transcript of the meeting will be made so that your comments will be accurately recorded.

On the morning of December 4th, the staff will be visiting some project areas. At this time, we are still coordinating the logistical arrangements for the site visit. Anyone interested in participating in a site visit may contact the Commission's Office of External Affairs (866-208-FERC) for more details. Individuals must provide their own transportation.

Becoming an Intervenor

In addition to involvement in the scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).4 Only intervenors have the right to seek rehearing of the Commission's decision.

Affected landowners and parties with environmental concerns may be granted intervenor status upon showing good cause by stating that they have a clear and direct interest in this proceeding which would not be adequately represented by any other parties. You do not need intervenor status to have your environmental comments considered.

Environmental Mailing List

This notice is being sent to individuals, organizations, and government entities interested in and/or potentially affected by the proposed project. It is also being sent to all identified potential right-of-way grantors. By this notice we are also asking governmental agencies, especially those in , to express their interest in becoming cooperating agencies for the preparation of the .

Additional Information

Additional information about the project is available from the Commission's Office of External Affairs, at 1-866-208-FERC, or on the FERC Internet website (http://www.ferc.gov) using the FERRIS link. Click on the FERRIS link, enter the docket number excluding the last three digits in the Docket Number field. Be sure you have selected an appropriate date range. For assistance with FERRIS, the FERRIS helpline can be reached at 1-866-208-3676, TTY (202) 502-8659, or at FERCOnlineSupport@ferc.gov. The FERRIS link on the FERC Internet website also provides access to the texts of formal documents issued by the Commission, such as orders, notices, and rulemakings.

Linwood A. Watson, Jr.,
Deputy Secretary.

[FR Doc. 02-29854 Filed 11-22-02; 8:45 am]

BILLING CODE 6717-01-P